DEPARTMENT OF EDUCATION

National Advisory Council on Indian Education; Meeting

AGENCY: National Advisory Council on Indian Education (NACIE), U.S. Department of Education.

ACTION: Announcement of a closed and open teleconference meeting.

SUMMARY: This notice sets forth the announcement of an upcoming meeting to be conducted by the National Advisory Council on Indian Education (NACIE). Notice of the meeting is required by section 10(a)(2) of the Federal Advisory Committee Act.

DATES: The NACIE teleconference meeting will be held on December 17, 2018 from 3:00 p.m.-5:00 p.m. (EST). The closed portion of the meeting will take place first from 3:00 p.m. to 3:45 p.m. The open portion of the meeting will take place from 4:00 p.m. to 5:00 p.m.

FOR FURTHER INFORMATION CONTACT: Tina Hunter, Designated Federal Official, Office of Elementary and Secondary Education, U.S. Department of Education, 400 Maryland Avenue SW, Washington, DC 20202. Telephone: 202-205-8527. Fax: 202-205-0310. Email: tina.hunter@ed.gov.

SUPPLEMENTARY INFORMATION:

NACIE's Statutory Authority and Function: The National Advisory Council on Indian Education is authorized by section 7141 of the Elementary and Secondary Education Act of 1965 (ESEA) as amended by the Every Student Succeeds Act (ESSA), 20 U.S.C. 7471. The Council is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress a report on its activities, including any recommendations the Council considers appropriate for the improvement of Federal education programs that include Indian children or adults as participants or that may benefit Indian children or adults and recommendations concerning the funding of any such program.

Meeting Agenda: The purpose of the closed portion of the meeting is to convene the Council to discuss the outcome of the subcommittee interviews of eligible applicants to fill the vacant Director position in the Office of Indian Education. In accordance with 41 CFR 102-3.155, this portion of the meeting will be closed due to the confidential nature of the information that will be discussed in evaluating each candidate's qualifications for the position of Director in the Office of the Indian Education. The open portion of the meeting will be a discussion of, and Council vote on, NACIE's Annual Report Subcommittee recommendations. There will be a conference line limit of 50 people on a first-come basis for the open portion of the meeting. The dial in information for the first 50 is as follows:

Dial-in Number: 202-991-0393

Conference ID: 61695881

Access to Records of the Meeting: The Department will post the official report of the open meeting on the OESE website at: http://www2.ed.gov/about/offices/list/oese/index.html?src=oc 21 days after the meeting. Pursuant to the FACA, the public may also inspect the materials at the Office of Indian Education, United States Department of Education, 400 Maryland Avenue SW, Washington, DC 20202, Monday-Friday, 8:30 a.m. to 5:00 p.m. Eastern Daylight Saving Time or by emailing TribalConsultation@ed.gov or by calling Terrie Nelson on (202) 401-0424 to schedule an appointment.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Section 7141 of the Elementary and Secondary Education Act of 1965 (ESEA) as amended by the Every Student Succeeds Act (ESSA), 20 U.S.C. 7471.

Frank Brogan,
Assistant Secretary for Elementary and Secondary Education.

[FR Doc. 2018-26130 Filed 11-29-18; 8:45 am]

BILLING CODE 4000-01-P